DEPARTMENT OF THE INTERIOR

Bureau of Land Management

National Park Service

[ID 070-02-1610-DO-051D]

Craters of the Moon National Monument; Land Use Plan and Associated Environmental Impact Statement

AGENCY: Upper Snake River District, Bureau of Land Management, Idaho Falls, Idaho; National Park Service, Craters of the Moon National Monument.

ACTION: Issuance of a Notice of intent to prepare a Resource Management Plan (RMP)/General Management Plan (GMP), and Environmental Impact Statement (EIS) for the Craters of the Moon National Monument. The Monument is located in Blaine, Butte, Lincoln, Minidoka, and Power Counties, Idaho.

SUMMARY: This document announces that the Bureau of Land Management (BLM) and the National Park Service (NPS) intend to jointly prepare a land use plan and associated EIS for the Craters of the Moon National Monument. This planning activity encompasses approximately 739,682 acres of federally managed land. The plan will fulfill the requirements of the National Environmental Policy Act (NEPA), the Federal Land Policy and Management Act (FLPMA, the National Park Service Organic Act, other pertinent statutes, the Presidential Proclamations establishing and expanding the Monument, and the NPS and BLM management policies. The BLM and NPS will work closely with interested parties to identify the management decisions that are best suited to the needs of the public. This collaborative process will take into account local, regional, and national needs and concerns. Publication of this notice initiates the public scoping process to identify planning issues and to develop planning criteria. Formal scoping will last a minimum of 60 days. The scoping process will include an evaluation of the existing land use plans in the context of the needs and interests of the public and protection of the values for which the Monument was established and expanded.

Comments: Open-house public meetings will be held throughout the plan scoping and preparation period. In order to ensure local community participation and input, public meeting locations will be rotated among nearby towns, especially those within a one-hour drive of the Monument. The dates and locations of these meetings will be announced through mailings and local and regional media releases. The notices will also be posted on the National Park Service (www.nps.gov/crmo) and Bureau of Land Management (www.id.blm.gov/planning) web sites. At least 15 days public notice will be given for activities where the public is invited to attend. Early participation by all those interested is encouraged and will help determine the future management of the Craters of the Moon National Monument. The BLM and NPS are interested in public comment regarding issues to be addressed by this planning effort. Issues identified by the public will help define the alternative management strategies to be analyzed in this conservation planning/environmental impact analysis process. To receive full consideration during alternative formulation, written comments identifying issues to be addressed must be postmarked or transmitted not later than 60 days after the publication of this notice in the Federal Register.

Informal public participation is encouraged throughout this process. Open-house meetings will be held to explain the planning/environmental impact analysis process and receive public input. Formal opportunity for public review and comment will be provided upon publication of the joint draft plan and EIS. Documents pertinent to this proposal may be examined at the Craters of Moon National Monument Headquarters, eighteen miles southwest of Arco on U.S. Highway 93, and at the Shoshone Field Office of the BLM, 400 W F Street, Shoshone, Idaho.

Comments, including names and street addresses of respondents, will be available for public review at the Shoshone Field Office of the BLM, in Shoshone, Idaho, during regular business hours, 7:45 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

ADDRESSES: For further information and/or to add your name to our mailing list, contact Rick VanderVoet, BLM Shoshone Field Office, PO Box 2-B, Shoshone, Idaho 83352, telephone (208) 732-7200, or James Morris, NPS, Craters of the Moon National Monument, PO Box 29, Arco, ID 83213, telephone (208) 527-3257.

SUPPLEMENTARY INFORMATION: The expansion of the Craters of the Moon National Monument and the changing needs and interests of the public necessitates development of a new plan for the Monument. Preliminary issues and management concerns have been identified by BLM and NPS personnel, other agencies, and in meetings with individuals and user groups. They represent BLM's and NPS's knowledge to date on the existing issues and concerns with current management. The issue themes that will be addressed in the plan include, but are not limited to: protection of geologic features, cave management, fire and fuels management, cultural resource management, transportation management, recreation management, livestock grazing, land tenure adjustments, wilderness resource management, and designation of management zones. After gathering public comments on what issues the plan should address, the suggested issues will be placed in one of three categories:

1. Issues to be resolved in the plan.

2. Issues resolved through policy or administrative action.

3. Issues beyond the scope of this plan.

Rationale will be provided in the plan for each issue placed in category 2 or 3. An interdisciplinary approach will be used to develop the plan in order to consider the variety of resource issues and concerns identified. Disciplines involved in the planning process will include specialists with expertise in minerals and geology, archaeology, rangeland management, outdoor recreation, wildlife, wilderness, lands and realty, hydrology, soils, sociology, and economics. Where necessary, outside expertise may be used.

Background Information: Presidential Proclamation 1694 established the Craters of the Moon National Monument on May 2, 1924 for the purpose of protecting the unusual landscape of the Craters of the Moon lava field. This “lunar” landscape was thought to resemble that of the moon and was described in the Proclamation as a “weird and scenic landscape peculiar to itself.” Since 1924, Monument has been expanded and boundary adjustments made through four Presidential Proclamations issued pursuant to the Antiquities Act (34 Stat. 225, 16 U.S.C. 431). Presidential Proclamation 1843 of July 23, 1928, expanded the monument to include certain springs for water supply and additional features of scientific interest. Presidential Proclamation 1916 of July 9, 1930, Presidential Proclamation 2499 of July 18, 1941, and Presidential Proclamation 3506 of November 19, 1962, made further adjustments to the boundaries. In 1996, a minor boundary adjustment was made by section 205 of the Omnibus Parks and Public Lands Management Act of 1996 (Pub. L. 104-333, 110 Stat. 4093, 4106). Presidential Proclamation (7373) of November 9, 2000 is the fifth proclamation affecting the Monument. This latest proclamation directed the National Park Service and Bureau of Land Management to manage the Monument cooperatively. The BLM and NPS propose to use a combined Resource Management Plan (RMP)/General Management Plan (GMP) process to replace portions of five existing BLM Land Use Plans and one NPS General Management Plan. This single, interagency RMP/GMP will establish management objectives for the entire Craters of the Moon National Monument. The proposed, new land use plan will be a stand-alone, comprehensive plan for the recently expanded Monument, and will serve as “blueprint” for joint management of these lands during the next 10-15 years.

Dated: April 16, 2002.
Patricia L. Neubacher,
Acting Regional Director, Pacific West Region.
Dated: April 17, 2002.
Elaine Marquis-Brong,
Director, National Conservation Landscape System, Bureau of Land Management.

[FR Doc. 02-9794 Filed 4-23-02; 8:45 am]

BILLING CODE 4310-32-M